DEPARTMENT OF THE INTERIOR

Geological Survey

Patent, Trademark & Copyright Acts

AGENCY: U.S. Geological Survey, Interior.

ACTION: Notice of prospective intent to award exclusive license.

SUMMARY: The United States Geological Survey (USGS) is contemplating awarding an exclusive license to: Hydrological Services Pty. Ltd. of Warwick Farm, New South Wales 2170, Australia, on U.S. Patent Application Serial No. 10/985,065, entitled “Apparatus for Deploying and Retrieving Water Sampler.”

Inquiries: If other parties are interested in similar activities, or have comments related to the prospective award, please contact Neil Mark, USGS, 12201 Sunrise Valley Drive, MS 201, Reston, Virginia 20192, voice (703) 648-4344, fax (703) 648-7219, or e-mail nmark@usgs.gov.

SUPPLEMENTARY INFORMATION: This notice is submitted to meet the requirements of 35 U.S.C. 208 et seq.

Dated: January 10, 2005.
Carol F. Aten,
Chief, Office of Administrative Policy and Services.

[FR Doc. 05-1250 Filed 1-21-05; 8:45 am]

BILLING CODE 4310-Y7-M